DEPARTMENT OF TRANSPORTATION

Federal Aviation Administration

Aviation Rulemaking Advisory Committee Meeting on Rotorcraft Issues

AGENCY: Federal Aviation Administration (FAA), DOT.

ACTION: Notice of public meeting.

SUMMARY: This notice announces a public meeting of the FAA's Aviation Rulemaking Advisory Committee to discuss rotorcraft issues.

DATES: The meeting will be held on February 7, 2005, 10:15 a.m. to 12:15 p.m. P.s.t.

ADDRESSES: The meeting will be held at the Anaheim Convention Center, Room 207-B, 800 West Katella Avenue, Anaheim, CA 92802, phone (714) 765-8950.

FOR FURTHER INFORMATION CONTACT: Angela Anderson, Office of Rulemaking, ARM-200, FAA, 800 Independence Avenue, SW, Washington, DC 20591, telephone (202) 267-9681.

SUPPLEMENTARY INFORMATION: The referenced meeting is announced pursuant to Section 10(a)(2) of the Federal Advisory Committee Act (Pub. L. 92-463; 5 U.S.C. App. II).

The agenda will include:

a. Discussion and approval of the Fatigue Tolerance Evaluation of Metallic Structures proposed Regulatory and Advisory Circular material package.

b. Working Group Status Report: Damage Tolerance and Fatigue Evaluation of Composite Rotorcraft Structure.

c. FAA Status Report: Performance and Handling Qualities Requirements Notice of Proposed Rulemaking. Attendance is open to the public but will be limited to the space available. The public must make arrangements to present oral statements at the meeting. Written statements may be presented to the committee at any time by providing 16 copies to the Assistant Chair or by providing the copies at the meeting.

Approximately thirty days after the meeting, minutes will be available on the FAA Web site at http://www.faa.gov/avr/arm/arac/calendarxml.cfm?nav=6.

If you are in need of assistance or require a reasonable accommodation for the meeting, please contact the person listed under the heading FOR FURTHER INFORMATION CONTACT. In addition, sign and oral interpretation, as well as a listening device, can be made available at the meeting if requested 10 calendar days before the meeting. You may make arrangements by contacting the person listed under the heading FOR FURTHER INFORMATION CONTACT.

If you are unable to attend the meeting, you can access it by telephoning 817-222-4871, pass code 5359#.

Issued in Washington, DC, on January 7, 2004.
Anthony F. Fazio,
Executive Director, Aviation Rulemaking Advisory Committee.

[FR Doc. 05-658 Filed 1-12-05; 8:45 am]

BILLING CODE 4910-13-P